DEPARTMENT OF TRANSPORTATION

Office of the Secretary

Application of Friendship Airways, Inc. D/B/A Yellow Air Taxi for Commuter Authority

AGENCY: Department of Transportation.

ACTION: Notice of Order to Show Cause (Order 2006-1-11), Docket OST-2005-21533.

SUMMARY: The Department of Transportation is directing all interested persons to show cause why it should not issue an order finding Friendship Airways, Inc. d/b/a Yellow Air Taxi fit, willing, and able, and awarding it Commuter Air Carrier Authorization.

DATES: Persons wishing to file objections should do so no later than January 27, 2006.

ADDRESSES: Objections and answers to objections should be filed in Docket OST-2005-21533 and addressed to U.S. Department of Transportation, Docket Operations, (M-30, Room PL-401), 400 Seventh Street, SW., Washington, DC 20590, and should be served upon the parties listed in Attachment A to the order.

FOR FURTHER INFORMATION CONTACT: Damon D. Walker, Air Carrier Fitness Division (X-56, Room 6401), U.S. Department of Transportation, 400 Seventh Street, SW., Washington, DC 20590, (202) 366-7785.

Dated: January 13, 2006.
Robert S. Goldner,
Special Counsel to Assistant Secretary for Aviation and International Affairs.

[FR Doc. E6-624 Filed 1-19-06; 8:45 am]

BILLING CODE 4910-62-P